DEPARTMENT OF TRANSPORTATION

National Highway Traffic Safety Administration

[U.S. DOT Docket No. NHTSA-2011-0018]

Reports, Forms, and Recordkeeping Requirements

AGENCY: National Highway Traffic Safety Administration (NHTSA), Department of Transportation (DOT).

ACTION: Request for public comment on proposed collection of information.

SUMMARY: Before a Federal agency can collect certain information from the public, it must receive approval from OMB. Under procedures established by the Paperwork Reduction Act of 1995, before seeking OMB approval, Federal agencies must solicit public comment on proposed collections of information, including extensions and reinstatements of previously approved collections.

This document describes a collection of information for which NHTSA intends to seek OMB approval.

DATES: Comments must be received on or before April 12, 2011.

ADDRESSES: You may submit comments [identified by DOT Docket No. NHTSA-2011-0018] by any of the following methods:

• Federal Rulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: U.S. Department of Transportation, 1200 New Jersey Avenue, SE., West Building Ground Floor, Room W12-140, between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov. or the street address listed above. Follow the online instructions for accessing the dockets.

FOR FURTHER INFORMATION CONTACT: Ms. Laurie Flaherty, Program Analyst, National 9-1-1 Program, Office of Emergency Medical Services, National Highway Traffic Safety Administration, 1200 New Jersey Avenue, SE., NTI-140, Room W44-322, Washington, DC 20590. (202) 366-2705. laurie.flaherty@dot.gov.

SUPPLEMENTARY INFORMATION: Under the Paperwork Reduction Act of 1995, before an agency submits a proposed collection of information to OMB for approval, it must publish a document in the Federal Register providing a 60 day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses. In compliance with these requirements, NHTSA asks public comment on the following proposed collection of information:

Title: National 9-1-1 Profile Database.

OMB Control Number: N/A.

FORM Number: This collection of information uses no standard forms, but does utilize a Web-based, data reporting/collection tool (https://www.911resourcecenter.org/code/9-1-1ProfileDatabase.aspx).

Abstract: The 911 Resource Center, funded by a cooperative agreement with NHTSA, is proposing to collect and aggregate information from State level reporting entities that can be used to measure the progress of 9-1-1 authorities across the country in enhancing their existing operations and migrating to—Internet-Protocol-enabled emergency networks. The data will be maintained in a “National 9-1-1 Profile Database.” One of the objectives of the National 9-1-1 Program is to develop, collect, and disseminate information concerning practices, procedures, and technology used in the implementation of E-911 services and to support 9-1-1 Public Safety Answering Points (PSAPs) and related State and local agencies for 9-1-1 deployment and operations. The national 9-1-1 profile database can be used to follow the progress of 9-1-1 authorities in enhancing their existing systems and implementing next-generation networks for more advanced systems.

Description of the Need for the Information and Proposed Use of the Information—

The goal of the data collection process is to support a national 9-1-1 profile that will be used to help accurately measure and depict the current status and planned capabilities of 9-1-1 systems across the United States. Evaluations, based upon the data collected, will help draw attention to key roadblocks and solutions in the deployment process and to target possible future activities and resources consistent with the goals of the program. The information in aggregated form will be available to State and local stakeholders in the public safety community.

The information to be collected includes data useful to evaluating the status of 9-1-1 programs across the country, along with their progress of implementing advanced systems and capabilities. The data elements involved will fall within two major categories: baseline and progress benchmarks.

• “Baseline” data elements reflect the current status and nature of 9-1-1 operations from State to State. These elements are largely descriptive in nature, are intended to provide a general view of existing 9-1-1 services across the country, and are grouped within three categories: administrative, system, and fiscal data.

• “Progress benchmarks” reflect the status of State efforts to implement advanced next generation 9-1-1 systems and capabilities. As titled, these data elements are largely implementation or deployment benchmarks against which progress can be measured. The elements involved are grouped in a logical order of planning, procurement, installation and testing, transition, and operations. Planning through testing elements reflects both State level and sub-State level activity and efforts. Transitional and operational elements specifically represent the latter.

In order to collect information needed to develop and implement effective strategies that meet the Program's goal of providing leadership, coordination, guidance and direction to the enhancement of the Nation's 9-1-1 services, NHTSA proposes to utilize a Web-based, data reporting and collection tool accessible through the Web site: http://www.911resourcecenter.org.

Description of the Likely Respondents (Including Estimated Number, and Proposed Frequency of Response to the Collection of Information):

Under this proposed effort, the 9-1-1 Resource Center would specifically request reporting entities to voluntarily collect and annually report the data described above utilizing the described Web-based data collection tool. Reporting entities are State level 9-1-1 program officials, and the data reported will reflect State-level aggregated data. The total number of respondents is identified at fifty-six (56), including the fifty States and the six U.S. Territories of Guam, U.S. Minor Outlying Islands, American Samoa, Mariana Islands, U.S. Virgin Islands, and Puerto Rico.

The above reporting entities will be requested to annually update data relating to their State or territory using the described Web-based tool.

Estimate of the Total Annual Reporting and Recordkeeping Burden Resulting From the Collection of Information:

NHTSA estimates that the time required to annually report the data described utilizing the Web-based tool will be three hours (2 hours of preparation, 1 hour of entry to Web site) per reporting entity, for a total of 168 hours for all entities. The respondents would not incur any reporting costs from the information collection beyond the time it takes to gather the information, prepare it for reporting and then populate the Web-based data collection tool. The respondents also would not incur any recordkeeping burden or recordkeeping costs from the information collection.

Authority: 44 U.S.C. 3506(c)(2)(A); 47 U.S.C. 942.

Issued on: February 8, 2011.
Michael L. Brown,
Acting Associate Administrator, Research and Program Development.

[FR Doc. 2011-3119 Filed 2-10-11; 8:45 am]

BILLING CODE 4910-59-P